DEPARTMENT OF HOMELAND SECURITY

U.S. Customs and Border Protection

National Customs Automation Program (NCAP) Test Concerning Automated Commercial Environment (ACE) Simplified Entry: Modification of Participant Selection Criteria and Application Process

AGENCY: U.S. Customs and Border Protection, Department of Homeland Security.

ACTION: General notice.

SUMMARY: This notice announces modifications to the National Customs Automation Program (NCAP) test concerning the simplified entry functionality in the Automated Commercial Environment (ACE). The test's participant selection criteria are modified to reflect that while importer self-filers must still hold a Customs-Trade Partnership Against Terrorism (C-TPAT) Tier 2 or higher status to be eligible to participate in the test, the C-TPAT status of an importer for whom a customs broker files a Simplified Entry is no longer an eligibility criterion. In addition, the test is no longer limited to nine (9) participants and, for a limited time, CBP is accepting applications from interested parties wishing to participate in the test. Prior applicants who were not accepted to participate in the test must re-apply for consideration.

DATES: The Simplified Entry test modifications set forth in this document are effective August 14, 2012. Applications to participate in this test must be received by CBP within 14 business days from August 14, 2012. Comments may be submitted to the Web site indicated in the “ADDRESSES” section below at any time throughout the test. The initial phase of the test will run until approximately December 31, 2013.

ADDRESSES: Comments or questions concerning this notice and indication of interest in participation in Simplified Entry should be submitted via email to cbpsimplifiedprocess@dhs.gov. For a comment, please indicate “Simplified Entry Federal Register Notice” in the subject line of your email.

FOR FURTHER INFORMATION CONTACT: For policy related questions, contact Steve Hilsen, Trade Policy and Programs, Office of International Trade, at stephen.hilsen@dhs.gov. For technical questions, contact Susan Maskell, Client Representative Branch, ACE Business Office, Office of International Trade, at susan.maskell@dhs.gov.

SUPPLEMENTARY INFORMATION:

Background

In General

Customs and Border Protection's (CBP's) National Customs Automation Program (NCAP) test concerning Automated Commercial Environment (ACE) Simplified Entry functionality (Simplified Entry) is authorized under § 101.9(b) of title 19 of the Code of Federal Regulations (19 CFR 101.9(b)), which provides for the testing of NCAP programs or procedures. See Treasury Decision (T.D.) 95-21. The procedures and criteria related to participation in Simplified Entry were announced in a notice published in the Federal Register on November 9, 2011 (76 FR 69755), and remain in effect unless explicitly changed by this or subsequent notices published in the Federal Register.

Simplified Entry allows participants to submit 12 required and three (3) optional data elements to CBP at any time prior to the arrival of the merchandise on the conveyance transporting the cargo to the United States. This data fulfills merchandise entry requirements and allows for earlier release decisions and more certainty for the importer in determining the logistics of cargo delivery. This initial phase of the test will run until approximately December 31, 2013, and is open to entries filed in the air transportation mode only.

Modification to Test Participant Selection Criteria

In the notice published in the Federal Register on November 9, 2011 (76 FR 69755), announcing the initial phase of the Simplified Entry pilot, CBP stated that participation in the test was limited to nine (9) participants comprised of importers holding a Tier 2 or higher Customs-Trade Partnership Against Terrorism (C-TPAT) status (applicable to both importer self-filers and importers for whom an eligible customs broker files a Simplified Entry) and customs brokers who are C-TPAT certified.

This notice announces modifications to the test's participation criteria to reflect that while importer self-filers must still hold a Tier 2 or higher C-TPAT status, the C-TPAT status of an importer for whom a customs broker files a Simplified Entry is no longer an eligibility criterion.

In addition, the Simplified Entry test is no longer restricted to nine (9) participants and is open to all eligible applicants. CBP will endeavor to accept all new eligible applicants on a first come first serve basis; however, if the volume of eligible applicants exceeds CBP's administrative capabilities, CBP will reserve the right to select eligible participants in order to achieve a diverse participant pool in accordance with the selection standards set forth in 76 FR 69755.

Modification to Application Process

Applications to participate in Simplified Entry must be sent via email to cbpsimplifiedprocess@dhs.gov within 14 business days of the date of publication of this notice in the Federal Register. Applicants will be notified whether their application is accepted. Prior applicants who were not accepted to participate in the test must re-apply for consideration.

All other procedures and criteria applicable to participation in Simplified Entry, as set forth in 76 FR 69755, remain in effect unless explicitly changed by this or subsequent notices published in the Federal Register.

Paperwork Reduction Act

The collections of information contained in this NCAP test have been approved by the Office of Management and Budget (OMB) in accordance with the requirements of the Paperwork Reduction Act (44 U.S.C. 3507) and assigned OMB number 1651-0024.

An agency may not conduct or sponsor, and a person is not required to respond to, a collection of information unless it displays a valid control number assigned by OMB.

Dated: August 9, 2012.
Allen Gina,
Assistant Commissioner, Office of International Trade.

[FR Doc. 2012-19931 Filed 8-13-12; 8:45 am]

BILLING CODE 9111-14-P